DEPARTMENT OF ENERGY

Notice of Request for Information on Formula Grants to States and Indian Tribes for Preventing Outages and Enhancing the Resilience of the Electric Grid

AGENCY: Grid Deployment Office, U.S. Department of Energy.

ACTION: Request for information.

SUMMARY: The U.S. Department of Energy (DOE or the Department) invites public comment on its request for information (RFI) regarding formula grants to be awarded to States and Indian Tribes to support investments for preventing outages and enhancing the resilience of the electric grid. The purpose of the RFI is to collect stakeholder feedback to inform DOE's structuring of such formula grants to States and Indian Tribes, with funding made available through a provision of the Infrastructure Investment and Jobs Act.

DATES: Responses to the RFI must be received by no later than 11:59 p.m. EDT on June 2, 2022.

ADDRESSES: Interested parties are to submit questions, comments, and responses to the Department's RFI to the following email address: 40101formulagrants@hq.doe.gov. Include “Formula Grants to States and Indian Tribes for Preventing Outages and Enhancing the Resilience of the Electric Grid” in the subject line of the email. Responses must be provided as attachments to an email. Responses must be provided as a Microsoft Word (.docx) attachment to the email, and no more than 5 pages in length, 12-point font, 1-inch margins. If possible, copy and paste the RFI sections as a template for your responses. It is recommended that attachments with file sizes exceeding 25MB be compressed (i.e., zipped) to ensure message delivery. Only electronic responses will be accepted. The complete RFI document, as well as, documents describing DOE's plans for implementing section 40101(d), and other pertinent information are available at https://netl.doe.gov/bilhub/grid-resilience/formula-grants.

FOR FURTHER INFORMATION CONTACT: Comments and questions may also be addressed to: Patricia Hoffman, Grid Deployment Office, U.S. Department of Energy, 1000 Independence Avenue SW, Washington, DC 20585 (202)-586-6074, pat.hoffman@hq.doe.gov.

SUPPLEMENTARY INFORMATION: Section 40101(d) of the Infrastructure Investment and Jobs Act (IIJA) (Pub. L. 117-58), codified at 42 U.S.C. 18711(d), directs the Secretary of Energy (Secretary) to establish a formula grant program to provide funds to States ¹ and Indian Tribes ² to support investments for preventing outages and enhancing the resilience of the electric grid. Under section 40101(d), the U.S. Department of Energy (DOE or the Department) is authorized to provide up to $459 million annually over a five-year period (for Fiscal Years 2022 through 2026) to States and Indian Tribes according to an award formula based on five statutorily defined factors. States and Indian Tribes are required to submit annual applications to DOE to receive funding.

¹ The term “States” includes herein all 50 States, U.S. Territories, and the District of Columbia.

² The term “Indian Tribe” herein “has the meaning given . . . in section 4 of the Indian Self-Determination and Education Assistance Act (25 U.S.C. 5304).” 42 U.S.C. 18701(2).

The Department seeks input, in the form of comments and questions, from all stakeholders on DOE's plans for implementing section 40101(d), including on the application and award requirements, the award formula allocation, and the technical assistance approach. Documents that provide this information are located at: https://netl.doe.gov/bilhub/grid-resilience/formula-grants.

These documents are:

1. Section 40101(d) Formula Grant Program Notice of Intent (NOI),

2. Draft Section 40101(d) Formula Grant Administrative and Legal Requirements Document (ALRD), and

3. Draft Allocation of Funds under the IIJA Section 40101(d)—Formula Grant Program.

In addition, the Department would appreciate responses from States and Indian Tribes to the following questions:

1. What are the specific challenges you anticipate with regard to providing the Program Narrative outlined in Appendix A of the NOI, if any?

2. What are the areas in which you would most appreciate receiving technical assistance? In addition, what approaches for providing technical assistance would be most helpful to you? The NOI includes a discussion on technical assistance.

3. What additional data sources are you aware of that may help DOE prepare the award formula?

This is solely a request for information and is not a request for applications. DOE is not accepting applications to this RFI, nor will DOE reimburse any of respondents' costs in preparing a response.

Proprietary Information

Because information received in response to this RFI may be used to structure future programs and formula grant allocations and/or otherwise be made available to the public, respondents are strongly advised NOT to include any information in their responses that might be considered business sensitive, proprietary, or otherwise confidential. If, however, a respondent chooses to submit business sensitive, proprietary, or otherwise confidential information, it must be clearly and conspicuously marked as such in the response. Responses containing confidential, proprietary, or privileged information must be conspicuously marked as described below. Failure to comply with these marking requirements may result in the disclosure of the unmarked information under the Freedom of Information Act or otherwise. The U.S. Federal Government is not liable for the disclosure or use of unmarked information and may use or disclose such information for any purpose.

Confidential, Commercial, and Financial Information. Consistent with 10 CFR 1004.11, DOE requires that any person submitting information that he or she believes to be confidential and exempt by law from public disclosure should submit via email two well-marked copies: One copy of the document marked “Confidential Commercial and Financial Information” including all the information believed to be confidential, and one copy of the document marked “non-confidential” with the information believed to be confidential deleted. DOE will make its own determination about the confidential status of the information and treat it according to its determination. The copy containing confidential commercial and financial information must include a cover sheet marked as follows identifying the specific pages containing confidential, proprietary, or privileged information: “Notice of Restriction on Disclosure and Use of Data: Pages [list applicable pages] of this response may contain confidential, commercial, or financial information that is exempt from public disclosure.” The Government may use or disclose any information that is not appropriately marked or otherwise restricted, regardless of source. In addition, (1) the header and footer of every page that contains confidential, proprietary, or privileged information must be marked as follows: “Contains Confidential, Commercial, or Financial Information Exempt from Public Disclosure” and (2) every line and paragraph containing proprietary, privileged, or trade secret information must be clearly marked with [[double brackets]] or highlighting.

Signing Authority

This document of the Department of Energy was signed on April 27, 2022, by Patricia A. Hoffman, Acting Director of the Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document on publication in the Federal Register.

Signed in Washington, DC, on April 28, 2022.
Treena V. Garrett,
Federal Register Liaison Officer, U.S. Department of Energy.

[FR Doc. 2022-09445 Filed 5-2-22; 8:45 am]

BILLING CODE 6450-01-P